DEPARTMENT OF COMMERCE

International Trade Administration

[A-570-084; C-570-085]

Certain Quartz Surface Products From the People's Republic of China: Initiation of Antidumping and Countervailing Duty Changed Circumstances Reviews; AM Stone

AGENCY: Enforcement and Compliance, International Trade Administration, Department of Commerce.

SUMMARY: In response to a request from AM Stone Cabinets, Inc. (AM Stone), the U.S. Department of Commerce (Commerce) is initiating changed circumstances reviews (CCR) of the antidumping duty (AD) and countervailing duty (CVD) orders on certain quartz surface products (quartz surface products) from the People's Republic of China (China) to determine whether the quartz surface products imported by AM Stone into the United States and exported by Universal Quartz and Stone Industrial SDN BHD (Universal Quartz) from Malaysia were manufactured in Malaysia with non-Chinese origin quartz slab.

DATES: Applicable June 26, 2023.

FOR FURTHER INFORMATION CONTACT: Ajay Menon, AD/CVD Operations, Office IX, Enforcement and Compliance, International Trade Administration, U.S. Department of Commerce, 1401 Constitution Avenue NW, Washington, DC 20230; telephone: (202) 482-0208.

SUPPLEMENTARY INFORMATION:

Background

On July 11, 2019, Commerce published in the Federal Register the orders on quartz surface products from China.¹ On October 21, 2022, Commerce published in the Federal Register the final results of a scope ruling regarding imports of quartz surface products manufactured in China and further processed in Malaysia, finding that such imports are covered by the scope of the Orders.² Moreover, because exporters of quartz surface products from Malaysia export both subject and non-subject merchandise, Commerce established a scope certification process for all imports of quartz surface products from Malaysia. Specifically, Commerce set forth certification requirements for importers and exporters to permit imports from Malaysia produced from non-Chinese origin quartz slab not to be subject to suspension of liquidation and cash deposit requirements. In so doing, Commerce also determined that certain companies processing Chinese quartz slab in Malaysia, including Universal Quartz, were ineligible to participate in this scope certification process.³ However, Commerce indicated that these companies, including Universal Quartz, could request reconsideration of their exclusion from the certification process in a future segment of the proceeding (e.g., in a CCR).⁴

¹ See Certain Quartz Surface Products from the People's Republic of China: Antidumping and Countervailing Duty Orders, 84 FR 33053 (July 11, 2019) (Orders).

² See Certain Quartz Surface Products from the People's Republic of China: Final Scope Ruling on Malaysian Processed Quartz Slab and Recission of the Circumvention Inquiry, 87 FR 64009, 64010 (October 21, 2022).

³ Id.

⁴ Id., 87 FR at 64010.

On May 11, 2023, AM Stone submitted a letter requesting that Commerce conduct a CCR to reconsider Universal Quartz's eligibility for the certification process, such that Universal Quartz can certify that the quartz surface products imported by AM Stone are not produced from Chinese-origin quartz slab.⁵ We received no comments from interested parties regarding the CCR Request.

⁵ See AM Stone's Letter, “Request for Changed Circumstances Review of Universal Quartz,” dated May 11, 2023 (CCR Request).

Scope of the Orders

The products covered by the Orders are quartz surface products from China.⁶ The products subject to the scope are currently classified in the Harmonized Tariff Schedule of the United States (HTSUS) under the following subheading: 6810.99.0010. Subject merchandise may also enter under subheadings 6810.11.0010, 6810.11.0070, 6810.19.1200, 6810.19.1400, 6810.19.5000, 6810.91.0000, 6810.99.0080, 2506.10.0010, 2506.10.0050, 2506.20.0010, 2506.20.0080, and 7016.90.1050. Although the HTSUS numbers are provided for convenience and customs purposes, the written product description remains dispositive.

⁶ See Orders, 84 FR at 33055-56, for a complete description of the scope.

Initiation of CCR

Pursuant to section 751(b)(1)(A) of the Tariff Act of 1930, as amended (the Act), and 19 CFR 351.216(d), Commerce conducts a CCR upon receipt of information concerning, or a request from, an interested party for a review of an AD or CVD order which shows changed circumstances sufficient to warrant a review of the order. The information AM Stone provided regarding Universal Quartz's exports of quartz surface products demonstrates changed circumstances sufficient to warrant such a review.⁷ Therefore, we are initiating a CCR pursuant to section 751(b)(1) of the Act and 19 CFR 351.216(d) based upon the information contained in AM Stone's submission to determine whether Universal Quartz is eligible to certify that its quartz surface products are not produced from Chinese-origin quartz slab.

⁷ See, generally, CCR Request.

Commerce will issue a questionnaire requesting additional information from AM Stone for this CCR regarding its quartz slab and will publish in the Federal Register a notice of the preliminary results, in accordance with 19 CFR 351.221(b)(4) and (c)(3)(i). All information submitted may be subject to verification. Failure to allow full and complete verification of any information submitted may affect Commerce's consideration of that information. Commerce will set forth its preliminary factual and legal conclusions in this notice and a description of any action proposed based on those results. Pursuant to 19 CFR 351.221(b)(4)(ii), interested parties will have an opportunity to comment on the preliminary results. Unless extended, Commerce will issue the final results of this CCR in accordance with the time limits set forth in 19 CFR 351.216(e).

Notification to Interested Parties

We are issuing this notice in accordance with sections 751(b)(1) and 777(i) of the Act and 19 CFR 351.216(b), and 351.221(b)(1).

Dated: June 20, 2023.
James Maeder,
Deputy Assistant Secretary for Antidumping and Countervailing Duty Operations.

[FR Doc. 2023-13477 Filed 6-23-23; 8:45 am]

BILLING CODE 3510-DS-P